Title 3—

The President

Executive Order 13297 of April 23, 2003

Applying the Federal Physicians Comparability Allowance Amendments of 2000 to Participants in the Foreign Service Retirement and Disability System, the Foreign Service Pension System, and the Central Intelligence Agency Retirement and Disability System

By the authority vested in me as President by the Constitution and the laws of the United States of America, including section 827 of the Foreign Service Act of 1980 (22 U.S.C. 4067), section 292 of the Central Intelligence Agency Retirement Act of 1964 (50 U.S.C. 2141), and section 301 of title 3, United States Code, and in order to conform the Foreign Service Retirement and Disability System, the Foreign Service Pension System, and the Central Intelligence Agency Retirement and Disability System to the Civil Service Retirement System, it is hereby ordered as follows:

Section 1. Foreign Service Retirement and Disability System. (a) The following provisions of the Federal Physicians Comparability Allowance Amendments of 2000 (Public Law 106-571) shall apply to the Foreign Service Retirement and Disability System, subchapter I of chapter 8 of the Foreign Service Act of 1980, as amended:

(i) Section 3(a) of Public Law 106-571 to provide that any amount received under section 5948 of title 5, United States Code (physicians comparability allowance), be included in the definition of basic pay; and

(ii) Section 3(b) of Public Law 106-571 to provide for the inclusion of the physicians comparability allowance in the computation of an annuity under the same rules that apply with respect to the Civil Service Retirement System.

(b) The Secretary of State shall issue regulations that reflect the application of sections 3(a) and 3(b) of Public Law 106-571 to the Foreign Service Retirement and Disability System. Such regulations shall provide that the foregoing provisions be retroactive to December 28, 2000.

Sec. 2. Foreign Service Pension System. (a) The following provisions of the Federal Physicians Comparability Allowance Amendments of 2000 (Public Law 106-571) shall apply to the Foreign Service Pension System, subchapter II of chapter 8 of the Foreign Service Act of 1980, as amended:

(i) Section 3(a) of Public Law 106-571 to provide that any amount received under section 5948 of title 5, United States Code (physicians comparability allowance), be included in the definition of basic pay; and

(ii) Section 3(c) of Public Law 106-571 to provide for the inclusion of the physicians comparability allowance in the computation of an annuity under the same rules that apply with respect to the Federal Employees Retirement System.

(b) The Secretary of State shall issue regulations that reflect the application of sections 3(a) and 3(c) of Public Law 106-571 to the Foreign Service Pension System. Such regulations shall provide that the foregoing provisions be retroactive to December 28, 2000.

Sec. 3. Central Intelligence Agency Retirement and Disability System.

(a) The following provisions of the Federal Physicians Comparability Allowance Amendments of 2000 (Public Law 106-571) shall apply to the Central Intelligence Agency Retirement and Disability System, title II of the Central Intelligence Agency Retirement Act of 1964, as amended:

(i) Section 3(a) of Public Law 106-571 to provide that any amount received under section 5948 of title 5, United States Code (physicians comparability allowance), be included in the definition of basic pay; and

(ii) Section 3(b) of Public Law 106-571 to provide for the inclusion of the physicians comparability allowance in the computation of an annuity under the same rules that apply with respect to the Civil Service Retirement System.

(b) The Director of Central Intelligence shall issue regulations to reflect the application of sections 3(a) and 3(b) of Public Law 106-571 to the Central Intelligence Agency Retirement and Disability System. Such regulations shall provide that the foregoing provisions be retroactive to December 28, 2000.

Sec. 4. Judicial Review. This order is not intended to create, nor does it create any right, benefit, or privilege, substantive or procedural, enforceable at law by a party against the United States, its agencies, its officers, employees, or any other person.

B

THE WHITE HOUSE,

April 23, 2003.

[FR Doc. 03-10606

Filed 4-25-03; 9:42 am]

Billing code 3195-01-P